DEPARTMENT OF TRANSPORTATION

Federal Aviation Administration

Commercial Space Transportation Advisory Committee—Closed Session

AGENCY: Federal Aviation Administration (FAA), DOT.

ACTION: Notice of Commercial Space Transportation Advisory committee special closed session.

SUMMARY: Pursuant to Section 10(a)(2) of the Federal Advisory Committee Act (Pub. L. 92-463, 5 U.S.C. App. 2), and 5 U.S.C. 552b(c), notice is hereby given of a special closed session of the Commercial Space Transportation Advisory Committee (COMSTAC). The special closed session will be a briefing by a representative from the National Security Council and will take place on Thursday, October 31, 2002, from 12 noon until 1:20 p.m. at the Holiday Inn-Capitol, 500 C Street SW., Washington, DC, in the Apollo Room.

FOR FURTHER INFORMATION CONTACT: Brenda Parker (AST-200), Office of the Associate Administrator for Commercial Space Transportation (AST), 800 Independence Avenue SW, Room 331, Washington, DC 20591, telephone (202) 385-4713; E-mail Brenda.parker@faa.dot.gov.

Issued in Washington, DC, October 24, 2002.
Patricia G. Smith,
Associate Administrator for Commercial Space Transportation.

[FR Doc. 02-27716 Filed 10-28-02; 3:12 pm]

BILLING CODE 4910-13-M